DEPARTMENT OF VETERANS AFFAIRS

Advisory Committee on Former Prisoners of War, Notice of Meeting

The Department of Veterans Affairs (VA) gives notice under Public Law 92-463 (Federal Advisory Committee Act) that the Advisory Committee on Former Prisoners of War has scheduled a meeting on November 14-16, 2011, at the Veterans Affairs Regional Office and Insurance Center (VAROIC), 5000 Wissahickon Avenue, Philadelphia, PA. The meeting will be held each day from 9 a.m. until 4 p.m.

The purpose of the Committee is to advise the Secretary of Veterans Affairs on the administration of benefits under title 38, United States Code, for veterans who are former prisoners of war, and to make recommendations on the needs of such Veterans for compensation, health care, and rehabilitation.

On November 14, the Committee will hear from its Chairman and the VAROIC Director. They Committee will also receive briefings on the Employee Education System, Veterans Health Initiative, and Robert A. Mitchell Center. The Committee will convene a closed session in order to protect Veteran privacy as the Committee tours VA's Regional Office, Pension Maintenance Center, and Insurance Center. On the morning of November 15, the Committee will reconvene in a closed session to tour the VA Medical Center. Closing portions of these sessions is in accordance with 5 U.S.C. 552b (c) 6). In the afternoon of November 15, the Committee will meet in open session for a Former Prisoners of War (FPOW) panel to gain information on FPOW issues and recommendations for health benefits and claims processing. Public comments will be received at 2 p.m. On November 16, the Committee will discuss their 2011 recommendations and draft of their final Committee report.

Individuals who speak are invited to submit a 1-2 page summaries of their comments for inclusion in the official meeting record. Members of the public may also submit written statements for the Committee's review to Mr. Jim Adams, Executive Assistant, Pension and Fiduciary Service, Department of Veterans Affairs (21PF), 810 Vermont Avenue NW., Washington, DC 20420, or email at jim.adams1@va.gov. Any member of the public seeking additional information should contact Mr. Adams at (571) 272-0749.

Dated: November 1, 2011.
By Direction of the Secretary.
Vivian Drake,
Committee Management Officer.

[FR Doc. 2011-28624 Filed 11-3-11; 8:45 am]

BILLING CODE P